DEPARTMENT OF ENERGY

Federal Energy Regulatory Commission

Notice of Staff Attendance at North American Electric Reliability Corporation Standard Drafting Team Meetings

The Federal Energy Regulatory Commission hereby gives notice that members of the Commission and/or Commission staff may attend the following meeting:

North American Electric Reliability Corporation Standards Committee Executive Committee Special Call

June 2, 2023 (12:00 p.m.-1:00 p.m.)

Further information regarding these meetings may be found at: https://www.nerc.com/Pages/Calendar.aspx.

The discussions at the meetings, which are open to the public, may address matters at issue in the following Commission proceeding:

Docket Nos. RD23-1-000, RD23-1-001 Extreme Cold Weather Reliability Standards EOP-011-3 and EOP-012-1

For further information, please contact Chanel Chasanov, 202-502-8569, or chanel.chasanov@ferc.gov.

Dated: May 22, 2023.
Kimberly D. Bose,
Secretary.

[FR Doc. 2023-11297 Filed 5-25-23; 8:45 am]

BILLING CODE 6717-01-P